DEPARTMENT OF DEFENSE

GENERAL SERVICES ADMINISTRATION

NATIONAL AERONAUTICS AND SPACE ADMINISTRATION

[OMB Control No. 9000-0113; Docket No. 2020-0053; Sequence No. 3]

Submission for OMB Review; Acquisition of Helium

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding acquisition of helium.

DATES: Submit comments on or before August 12, 2020.

ADDRESSES: Written comments and recommendations for this information collection should be sent within 30 days of publication of this notice to www.reginfo.gov/public/do/PRAMain. Find this particular information collection by selecting “Currently under Review—Open for Public Comments” or by using the search function. Additionally submit a copy to GSA through http://www.regulations.gov and follow the instructions on the site. This website provides the ability to type short comments directly into the comment field or attach a file for lengthier comments.

Instructions: All items submitted must cite Information Collection 9000-0113, Acquisition of Helium. Comments received generally will be posted without change to http://www.regulations.gov, including any personal and/or business confidential information provided. To confirm receipt of your comment(s), please check www.regulations.gov, approximately two to three days after submission to verify posting. If there are difficulties submitting comments, contact GSA Regulatory Secretariat Division at 202-501-4755 or GSARegSec@gsa.gov.

FOR FURTHER INFORMATION CONTACT: Bryon Boyer, Procurement Analyst, at telephone 817-850-5580, or bryon.boyer@gsa.gov.

SUPPLEMENTARY INFORMATION:

A. OMB Control Number, Title, and Any Associated Form(s)

9000-0113, Acquisition of Helium.

B. Needs and Uses

This clearance covers the information that contractors must submit to comply with the Federal Acquisition Regulation (FAR) clause 52.208-8, Required Sources for Helium and Helium Usage Data. This clause implements the requirements of the Helium Act (50 U.S.C. 167, et seq.) and 43 CFR 3195. The clause, in paragraph(b)(2), requires contractors to: Purchase major helium requirements, to be used in performance of a contract, from Federal helium suppliers to the extent supplies are available; and submit (within 10 days of such acquisition) the following information to the contracting officer: (1) The name of the supplier; (2) the amount of helium purchased; (3) the delivery date(s); and (4) the location where the helium was used.

The contracting officer will use the information to ensure compliance with contract clauses and will forward the information to the Department of the Interior, Bureau of Land Management. Without the information, Federal and contractor compliance with the applicable statutory requirements cannot be monitored effectively.

C. Annual Burden

Respondents: 26.

Total Annual Responses: 26.

Total Burden Hours: 26.

D. Public Comment

A 60-day notice was published in the Federal Register at 85 FR 26690, on May 05, 2020. No comments were received.

Obtaining Copies: Requesters may obtain a copy of the information collection documents from the GSA Regulatory Secretariat Division, by calling 202-501-4755 or emailing GSARegSec@gsa.gov. Please cite OMB Control No. 9000-0113, Acquisition of Helium, in all correspondence.

Dated: July 7, 2020.
Janet Fry,
Director, Federal Acquisition Policy Division, Office of Governmentwide Acquisition Policy, Office of Acquisition Policy, Office of Governmentwide Policy.

[FR Doc. 2020-14961 Filed 7-10-20; 8:45 am]

BILLING CODE 6820-EP-P